DEPARTMENT OF TRANSPORTATION

National Highway Traffic Safety Administration

[Docket No. NHTSA 2004-17439; Notice 2]

Hyundai Motor Company, Grant of Petition for Decision of Inconsequential Noncompliance

Hyundai Motor Company (Hyundai) has determined that certain vehicles that it produced do not comply with S5.3.5(a) of Federal Motor Vehicle Safety Standard (FMVSS) No. 105, “Hydraulic and electric brake systems,” and S5.5.5 of FMVSS No. 135, “Passenger car brake systems.” Pursuant to 49 U.S.C. 30118(d) and 30120(h), Hyundai has petitioned for a determination that this noncompliance is inconsequential to motor vehicle safety and has filed an appropriate report pursuant to 49 CFR part 573, “Defect and Noncompliance Reports.” Notice of receipt of the petition was published with a 30 day comment period on April 20, 2004, in the Federal Register (69 FR 21186). NHTSA received no comments.

S5.3.5 of FMVSS No. 105 requires that “Each indicator lamp shall display word, words or abbreviation * * * which shall have letters not less than ⅛-inch high.” S5.5.5 of FMVSS No. 135 requires that “Each visual indicator shall display a word or words * * * [which] shall have letters not less than 3.2 mm (⅛ inch) high.”

Approximately 237,994 vehicles are affected. Approximately 142,667 vehicles do not meet the letter height requirement for the abbreviation “ABS,” where the letter height varies from 2.5 mm to 3.1 mm. These include MY 1998-2004 Accents, MY 1998-2004 Elantras, MY 2002-2004 Tiburons, MY 1999-2004 Sonatas, MY 2001-2004 XGs, and MY 2001-2004 Santa Fes. Approximately 95,327 vehicles do not meet the letter height requirements for the word “brake,” where the letter height varies from 2.9 mm to 3.1 mm. These include MY 1998-1999 Accents and MY 1998-2001 Tiburons.

Hyundai believes that the noncompliance is inconsequential to motor vehicle safety and that no corrective action is warranted. Hyundai states that the International Standards Organization (ISO) symbol for the ABS and the “ABS” lettering are part of the same ABS warning indicator, and both are simultaneously illuminated in yellow by the same lighting source. Hyundai explains that both identifications illuminate simultaneously during the instrument cluster warning lamp operation check, and also if an ABS malfunction occurs. Hyundai further states that although the ABS lettering that appears within the ISO symbol is slightly smaller than 3.2 mm in height, the overall height of the ABS warning lamp word/symbol combination significantly exceeds the standard on each of the affected models.

Hyundai says that on the two models where the “brake” lettering is slightly smaller than 3.2 mm in height, the ISO symbol for the brake system and the parking brake ISO symbol are part of the same brake warning indicator. Hyundai states that both the lettering and symbol identifications illuminate simultaneously in red during the instrument cluster warning lamp operation check, every time the parking brake is applied, and also if a brake system malfunction occurs. Hyundai further points out that although the “brake” lettering that appears below the ISO symbols is slightly smaller than 3.2 mm in height, the overall height of the “brake” warning lamp word and symbols combination exceeds the standard. Therefore the visual indicators are visible to the driver under all driving conditions.

The agency agrees with Hyundai this noncompliance will not have an adverse effect on vehicle safety. Due to the positioning, color, use of the ISO symbol, and combined size of both the lettering and symbols, it is very unlikely that a vehicle user would either fail to see or fail to understand the meaning of the brake or ABS warning light in the affected vehicles. The information presented by the telltales is correct. Hyundai has not received any complaints regarding the size or visibility of either light, and is not aware of any crashes or injuries associated with the size or visibility of the indicators. Hyundai has corrected the problem.

In consideration of the foregoing, NHTSA has decided that the petitioner has met its burden of persuasion that the noncompliance described is inconsequential to motor vehicle safety. Accordingly, Hyundai's petition is granted and the petitioner is exempted from the obligation of providing notification of and a remedy for the noncompliance.

Authority: 49 U.S.C. 30118, 30120; delegations of authority at 49 CFR 1.50 and 501.8.

Issued on: July 6, 2004.
Kenneth N. Weinstein,
Associate Administrator for Enforcement.

[FR Doc. 04-15652 Filed 7-8-04; 8:45 am]

BILLING CODE 4910-59-U